FEDERAL DEPOSIT INSURANCE CORPORATION

Agency Information Collection Activities: Submission for OMB Review; Comment Request

AGENCY: Federal Deposit Insurance Corporation (FDIC).

ACTION: Notice of information collections to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the eight information collection systems described below.

DATES: Comments must be submitted on or before March 26, 2007.

ADDRESSES: Interested parties are invited to submit written comments to Steve Hanft, (202) 898-3907, Clearance Officer, Federal Deposit Insurance Corporation, 550 17th Street NW., Washington, DC 20429. Comments may be hand-delivered to the guard station at the rear of the 17th Street Building (located on F Street), on business days between 7 a.m. and 5 p.m. Comments may also be Faxed to (202) 898-8788; or e-mailed to: comments@fdic.gov. All comments should refer to the relevant OMB control number.

A copy of the comments may also be submitted to the OMB desk officer for the FDIC, Office of Information and Regulatory Affairs, Office of Management and Budget, New Executive Office Building, Washington, DC 20503.

FOR FURTHER INFORMATION CONTACT: Steve Hanft, at the FDIC address above.

SUPPLEMENTARY INFORMATION:

Proposal To Renew the Following Currently Approved Collections of Information

1. Title: Interagency Charter and Federal Deposit Insurance Application.

OMB Number: 3064-0001.

Frequency of Response: On occasion.

Affected Public: Banks of savings associations wishing to become FDIC-insured depository institutions.

Estimated Number of Respondents: 193.

Estimated Time per Response: 125 hours.

Total Annual Burden: 24,125 hours.

General Description of Collection: The Federal Deposit Insurance Act requires proposed financial institutions to apply to the FDIC to obtain deposit insurance. This collection provides the FDIC with the information needed to evaluate the applications.

2. Title: Securities of Insured Nonmember Banks.

OMB Number: 3064-0030.

Form Numbers: 3, 4, 5.

Frequency of Response: On occasion.

Affected Public: Generally, any person subject to section 16 of the Securities Exchange Act of 1934 with respect to securities registered under 12 CFR 335.

Estimated Number of Respondents: 1,333.

Estimated Time per Response: 0.6 hours.

Total Annual Burden: 1,800 hours.

General Description of Collection: FDIC bank officers, directors, and persons who beneficially own more than 10% of a specified class of registered equity securities are required to publicly report their transactions in equity securities of the issuer.

3. Title: Application for a Bank to Establish a Branch or Move its Main Office or Branch.

OMB Number: 3064-0070.

Frequency of Response: On occasion.

Affected Public: Insured financial institutions.

Estimated Number of Respondents: 1,540.

Estimated Time per Response: 5 hours.

Total Annual Burden: 7,700 hours.

General Description of Collection: Insured institutions must obtain the written consent of the FDIC before establishing or moving a main office or branch.

4. Title: Application for Consent to Reduce or Retire Capital.

OMB Number: 3064-0079.

Frequency of Response: On occasion.

Affected Public: Insured state nonmember banks.

Estimated Number of Respondents: 80.

Estimated Time per Response: 1 hour.

Total Annual Burden: 80 hours.

General Description of Collection: Insured state nonmember banks proposing to change their capital structure must submit an application containing information about the proposed change to obtain FDIC's consent to reduce or retire capital.

5. Title: Appraisal Standards.

OMB Number: 3064-0103.

Frequency of Response: On occasion.

Affected Public: Insured state nonmember banks.

Estimated Number of Respondents: 5,346.

Estimated Time per Response: 15 minutes.

Estimated Number of Responses: 328,600.

Total Annual Burden: 82,150 hours.

General Description of Collection: FIRREA directs the FDIC to prescribe appropriate performance standards for real estate appraisals connected with Federally related transactions under its jurisdiction. This information collection is a direct consequence of the statutory requirement.

6. Title: Activities and Investments of Savings Associations.

OMB Number: 3064-0104.

Frequency of Response: On occasion.

Affected Public: Insured Savings Associations.

Estimated Number of Respondents: 75.

Estimated Time per Response: 5 hours.

Total Annual Burden: 375 hours.

General Description of Collection: State savings associations must furnish information to the FDIC to obtain approval or non-objection prior to engaging in certain activities or acquiring/retaining certain investments.

7. Title: Forms Relating to Outside Counsel, Legal Support and Expert Services Programs.

OMB Number: 3064-0122.

Form Numbers: 5000/24-29; 5000/31-35; 5200/01; 5210/01-15.

Frequency of Response: On occasion.

Affected Public: Those who wish to be or are providers of legal support services to the FDIC.

Estimated Number of Respondents: 4,603.

Estimated Time per Response: 0.8 hours.

Total Annual Burden: 3,711 hours.

General Description of Collection: These forms facilitate the procurement of and payment for legal services; ensure compliance with statutory and regulatory requirements relating to disqualifying conditions or conflicts of interest; and monitor the participation of women and minorities in legal services contracts.

8. Title: CRA Sunshine.

OMB Number: 3064-0139.

Frequency of Response: On occasion.

Affected Public: Insured state nonmember banks and their affiliates, and nongovernmental entities and persons.

Estimated Number of Respondents: 26.

Estimated Time per Response: 19.3 hours.

Total Annual Burden: 501.6 hours.

General Description of Collection: This collection implements a statutory requirement imposing reporting, disclosure and recordkeeping requirements on some community reinvestment-related agreements between insured depository institutions or affiliates, and nongovernmental entities or persons.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 16th day of February, 2007.
Federal Deposit Insurance Corporation.
Valerie J. Best,
Assistant Executive Secretary.

[FR Doc. E7-3073 Filed 2-22-07; 8:45 am]

BILLING CODE 6714-01-P